DEPARTMENT OF THE TREASURY

Bureau of Alcohol, Tobacco and Firearms

27 CFR Parts 4, 9, 24, 70 and 275

[T.D. ATF-432]

RIN 1512-AC25

Technical Amendments

AGENCY: Bureau of Alcohol, Tobacco and Firearms (ATF), Treasury.

ACTION: Final rule: Treasury decision.

SUMMARY: This Treasury decision makes technical amendments and corrects typographical errors in various regulations of the ATF. All changes are to provide clarity and uniformity throughout the regulations.

DATES: Effective November 16, 2000.

FOR FURTHER INFORMATION CONTACT: Nancy Kern, Regulations Division, (202) 927-8210, Bureau of Alcohol, Tobacco and Firearms, 650 Massachusetts Avenue, NW., Washington, DC 20226.

SUPPLEMENTARY INFORMATION:

Background

The Bureau of Alcohol, Tobacco and Firearms (ATF) administers regulations published in title 27, Code of Federal Regulations. These regulations are updated April 1 of each year to incorporate new or revised regulations that were published by ATF in the Federal Register during the preceding year. ATF identified several amendments that are needed to provide clarity and uniformity to the regulations in 27 CFR.

These amendments do not make any substantive changes and are only intended to improve the clarity of title 27.

Paperwork Reduction Act

The provisions of the Paperwork Reduction Act of 1995, Public Law 104-13, 44 U.S.C. Chapter 35, and its implementing regulations, 5 CFR 1320, do not apply to this final rule because there are no recordkeeping or reporting requirements.

Regulatory Flexibility Act

The provisions of the Regulatory Flexibility Act (5 U.S.C. 601 et seq.) do not apply to this rule because no notice of proposed rulemaking is necessary.

Executive Order 12866

This final rule is not subject to the requirements of Executive Order 12866 because the regulations make nonsubstantive technical corrections to previously published regulations.

Administrative Procedure Act

Because this final rule merely makes technical corrections to improve the clarity of the regulations, it is unnecessary to issue this final rule with notice and public procedure under 5 U.S.C. 553(b), or subject to the effective date limitation in section 553(d).

Drafting Information

The author of this document in Nancy Kern, Regulations Division, Bureau of Alcohol, Tobacco and Firearms.

List of Subjects

27 CFR Part 4

Advertising, Consumer protection, Customs duties and inspection, Imports, Labeling, Liquors, Packaging and Containers.

27 CFR Part 9

Administrative practices and procedures, Consumer protection, Viticultural areas. Wine.

27 CFR Part 24

Administrative practice and procedure, Authority delegations, Claims, Electronic fund transfers, Excise taxes, Exports, Food additives, Fruit juices, Labeling, Liquors, Packaging and containers, Reporting and recordkeeping requirements, Research, Scientific equipment, Spices and flavoring, Surety bonds, Taxpaid wine bottling house, Transportation, Vinegar, Warehouses, Wine.

27 CFR Part 70

Administrative practice and procedure, Alcohol and alcoholic beverages, Authority delegations, Bankruptcy, Claims, Disaster assistance, Excise taxes, Firearms and ammunition, Government employees, Law enforcement, Law enforcement officers, Penalties, Reporting and recordkeeping requirements, Seizures and forfeitures, Surety bonds, Tobacco.

27 CFR Part 275

Administrative practice and procedure, Authority delegations, Cigars and cigarettes, Claims, Customs duties and inspections, Electronic fund transfers, Excise taxes, Imports, Labeling, Packaging and containers, Penalties, Reporting and recordkeeping requirements, Seizures and forfeitures, Surety bonds, Tobacco.

Authority and Issuance

Accordingly, for the reason set out in the preamble, Title 27, Code of Federal Regulations is amended as follows:

PART 4—LABELING AND ADVERTISING OF WINE

Paragraph 1. The authority citation for part 4 continues to read as follows:

Authority: 17 U.S.C. 205

Par. 2. In § 4.21, revise the cross reference at the end of the section to read as follows:

§ 4.21 The standards of identity.

* * * * *

Cross Reference: For regulations relating to the use of spirits in wine, see part 24 of this chapter.

Par. 3. Section 4.25a(e)(2) is revised to read as follows:

§ 4.25a Appellations of origin.

* * * * *

(e) * * *

(2) Establishment of American viticultural areas. Petitions for establishment of American viticultural areas may be made to the Director by any interested party, pursuant to the provisions of § 70.701(c) of this title. The petition may be in the form of a letter, and should contain the following information referred to in § 9.3(b) of this title.

* * * * *

PART 9—AMERICAN VITICULTURAL AREAS

Par. 4. The authority citation for part 9 continues to read as follows:

Authority: 27 U.S.C. 205.

Par. 5. In § 9.3, revise the section heading and paragraphs (a) and (b)(3) to read as follows:

§ 9.3 Relation to parts 4 and 70 of this chapter.

(a) Procedure. In accordance with §§ 4.25a(e)(2) and 70.701(c) of this chapter, the Director shall receive petitions to establish American viticultural areas and shall use the informal rulemaking process, under 5 U.S.C. 553, in establishing viticultural areas in this part.

(b) * * *

(3) Evidence relating to the geographical features (climate, soil, elevation, physical features, etc.) which distinguish the viticultural features of the proposed area from surrounding areas;

* * * * *

PART 24—WINE

Par. 6. The authority citation for part 24 continues to read as follows:

Authority: 5 U.S.C. 552(a); 26 U.S.C. 5001, 5008, 5041, 5042, 5044, 5061, 5062, 5081, 5111-5113, 5121, 5122, 5142, 5143, 5173, 5206, 5214, 5215, 5351, 5353, 5354, 5356, 5357, 5361, 5362, 5364-5373, 5381-5388, 5391, 5392, 5511, 5551, 5552, 5661, 5662, 5684, 6065, 6091, 6109, 6301, 6302, 6311, 6651, 6676, 7011, 7302, 7342, 7502, 7503, 7606, 7805, 7851; 31 U.S.C. 9301, 9303, 9304, 9306.

Par. 7. In § 24.265, remove the word “bail” and add the wrod “bailee” in place thereof.

PART 70—PROCEDURE AND ADMINISTRATION

Par. 8. The authority citation for part 70 continues to read as follows:

Authority: 5 U.S.C. 301 and 552; 26 U.S.C. 4181, 4182, 5146, 5203, 5207, 5275, 5367, 5415, 5504, 5555, 5684(a), 5741, 5761(b), 5802, 6020, 6021, 6064, 6102, 6155, 6159, 6201, 6203, 6204, 6301, 6303, 6311, 6313, 6314, 6321, 6323, 6325, 6326, 6331-6343, 6401-6404, 6407, 6416, 6423, 6501-6503, 6511, 6513, 6514, 6532, 6601, 6602, 6611, 6621, 6622, 6651, 6653, 6656-6658, 6665, 6671, 6672, 6701, 6723, 6801, 6862, 6863, 6901, 7011, 7101, 7102, 7121, 7122, 7207, 7209, 7214, 7304, 7401, 7403, 7406, 7423, 7424, 7425, 7426, 7429, 7430, 7432, 7502, 7503, 7505, 7506, 7513, 7601-7606, 7608-7610, 7622, 7623, 7653, 7805.

Par. 9. In § 70.411, revise paragraph (c)(2) to read as follows:

§ 70.411 Imposition of taxes, qualification requirements, and regulations.

* * * * *

(c) * * *

(2) Miscellaneous liquor transactions. Part 170 of 27 CFR contains miscellaneous regulations relative to the manufacture, removal, and use of stills and condensers, and to the notice, registration, and recordkeeping requirements therefor.

* * * * *

Par. 10. Remove the reference “§ 71.26(h)” each place it appears and add, in its place, the reference “§ 70.802(g)” in the following places;

(a) § 70.701(a)(3)(iv); and

(b) § 70.701(b).

PART 275—IMPORTATION OF TOBACCO PRODUCTS AND CIGARETTE PAPERS AND TUBES

Par. 10a. The authority citation for part 275 continues to read as follows:

Authority: 18 U.S.C. 2342; 26 U.S.C. 5701, 5703, 5704, 5705, 5708, 5712, 5713, 5721, 5722, 5723, 5741, 5754, 5761, 5762, 5763, 6301, 6302, 6313, 6404, 7101, 7212, 7342, 7606, 7652, 7805; 31 U.S.C. 9301, 9303, 9304, 9306.

Par. 11. In § 275.105, revise the first sentence to read as follows:

§ 275.105 Prepayment of tax.

To prepay, in Puerto Rico, the internal revenue tax imposed by 26 U.S.C. 7652(a), on tobacco products and cigarette paper and tubes of Puerto Rican manufacture which are to be shipped to the United States, the shipper shall file, or cause to be filed, with the Chief, Puerto Rico Operations, a tax return, ATF Form 5000.25, in duplicate, with full remittance of tax which will become due on such tobacco products and cigarette papers and tubes.* * *

Signed: October 16, 2000.
Bradley A. Buckles,
Director.
Approved: October 25, 2000.
John P. Simpson,
Deputy Assistant Secretary, (Regulatory, Tariff and Trade Enforcement).

[FR Doc. 00-29409 Filed 11-15-00; 8:45 am]

BILLING CODE 4810-13-M